SECURITIES AND EXCHANGE COMMISSION

[Release No. 34-90785]

Acknowledgement of Receipt of Notice of Registration as a National Securities Exchange Pursuant to Section 6(g) of the Securities Exchange Act of 1934 by the Minneapolis Grain Exchange, LLC

December 22, 2020.

Section 6(g) of the Securities Exchange Act of 1934 (“Exchange Act”) ¹ provides that an exchange that lists or trades security futures products may register as a national securities exchange solely for the purposes of trading security futures products by filing a written notice with the Securities and Exchange Commission (“Commission”) if: (1) The exchange is a board of trade, as that term is defined by the Commodity Exchange Act (“CEA”),² that has been designated a contract market by the Commodity Futures Trading Commission (“CFTC”) and such designation is not suspended by order of the CFTC; and (2) such exchange does not serve as a market place for transactions in securities other than security futures products or futures on exempted securities or groups or indexes of securities or options thereon that have been authorized under Section 2(a)(1)(C) of the CEA.³ Rule 6a-4 under the Exchange Act ⁴ requires that such an exchange submit written notice of registration to the Commission on Form 1-N.⁵ Under Exchange Act Section 6(g)(2)(B), an exchange's registration as a national securities exchange becomes effective contemporaneously with the submission of the written notice on Form 1-N.⁶

¹ 15 U.S.C. 78f(g).

² 7 U.S.C. 1a(2).

³ 7 U.S.C. 2(a)(1)(C).

⁴ 17 CFR 240.6a-4.

⁵ Under Rule 202.3(b)(3) of the Commission's Informal and Other Procedures, upon receipt of a Form 1-N, the Division of Market Regulation (now the Division of Trading and Markets) examines the notice to determine whether all necessary information has been supplied and whether all other required documents have been furnished in proper form. 17 CFR 202.3(b)(3).

⁶ 15 U.S.C. 78f(g)(2)(B).

On December 11, 2020, the Minneapolis Grain Exchange, LLC (“MGEX”) filed a Form 1-N with the Commission.⁷ Pursuant to Section 6(g)(3) of the Exchange Act,⁸ the Commission hereby acknowledges receipt of the Form 1-N submitted by MGEX. Copies of the Form 1-N, including all exhibits, are available in the Commission's Public Reference Room.

⁷ This Form 1-N is being filed by MGEX in connection with a Commission exemptive order issued under Section 36 of the Exchange Act. See Securities Exchange Act Release No. 90510 (November 20, 2020), 85 FR 77297 (December 1, 2020) (“Exemptive Order”). The Exemptive Order relates to listing and trading contracts for sale for future delivery on the SPIKES Index on MGEX consistent with the terms and conditions set forth in the order.

⁸ 15 U.S.C. 78f(g)(3).

For questions regarding this Release, please contact David Dimitrious, Senior Special Counsel, at (202) 551-5131, Michou Nguyen, Special Counsel, at (202) 551-7768, or Eli Kozminsky, Attorney-Adviser, at (202) 551-7695; Division of Trading and Markets, Securities and Exchange Commission, 100 F Street NE, Washington, DC 20549.

For the Commission, by the Division of Trading and Markets, pursuant to delegated authority.⁹
⁹ 17 CFR 200.30-3(a)(75).
Eduardo A. Aleman,
Deputy Secretary.

[FR Doc. 2020-28810 Filed 12-29-20; 8:45 am]

BILLING CODE 8011-01-P